DEPARTMENT OF LABOR

Employment and Training Administration

[TA-W-92,084]

Northern Industrial Erectors, Inc., Grand Rapids, Minnesota; Notice of Affirmative Determination Regarding Application for Reconsideration

By application dated October 3, 2016, State Workforce Official requested administrative reconsideration of the negative determination regarding workers' eligibility to apply for worker adjustment assistance applicable to workers and former workers of Northern Industrial Erectors, Inc., Grand Rapids, Minnesota. The determination was issued on September 9, 2016.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that there was no increase in imports by the workers' firm or its customers, nor was there a foreign shift or acquisition by the workers' or its customers. In addition, neither the workers' firm nor its customers reported imports of steel erection services like or directly competitive with steel erection services provided by the workers' firm. Furthermore, the workers' firm was not a Downstream Producer or a Supplier to a firm in which the workers' firm's services supplied was related to the article the basis of the certification.

The request for reconsideration asserts that the workers' firm should be considered a Downstream Producer.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 1st day of November 2016.
Hope D. Kinglock,
Certifying Officer, Office of Trade Adjustment Assistance.

[FR Doc. 2017-01214 Filed 1-18-17; 8:45 am]

BILLING CODE P